DEPARTMENT OF COMMERCE

Foreign-Trade Zones Board

[Docket 20-2011]

Foreign-Trade Zone 106—Oklahoma City, OK Application for Reorganization/Expansion Under Alternative Site Framework

An application has been submitted to the Foreign-Trade Zones (FTZ) Board (the Board) by the Port Authority of Greater Oklahoma City, grantee of FTZ 106, requesting authority to reorganize and expand the zone under the alternative site framework (ASF) adopted by the Board (74 FR 1170, 1/12/09 (correction 74 FR 3987, 1/22/09); 75 FR 71069-71070, 11/22/10). The ASF is an option for grantees for the establishment or reorganization of general-purpose zones and can permit significantly greater flexibility in the designation of new “usage-driven” FTZ sites for operators/users located within a grantee's “service area” in the context of the Board's standard 2,000-acre activation limit for a general-purpose zone project. The application was submitted pursuant to the Foreign-Trade Zones Act, as amended (19 U.S.C. 81a-81u), and the regulations of the Board (15 CFR part 400). It was formally filed on March 15, 2011.

FTZ 106 was established by the Board on September 13, 1984 (Board Order 271, 49 FR 36133, 9/21/84), and expanded on December 7, 1989 (Board Order 455, 54 FR 51441, 12/15/89), on February 10, 2000 (Board Order 1078, 65 FR 8337-8338, 2/18/00), on September 28, 2007 (Board Order 1529, 72 FR 56722-56723, 10/4/07), and on June 26, 2009 (Board Order 1628, 74 FR 32892, 7/9/09).

The current zone project consists of six sites (totaling 1,450 acres) in the Oklahoma City area: Site 1 (1,061 acres)—within the 6,700-acre Will Rogers World Airport complex; Site 2 (6 acres)—Biagi Bros. Warehouse, 5002 SW 36th, Oklahoma City; Site 8 (30 acres)—Will Rogers World Airport NE, immediately northeast of Will Rogers World Airport, Oklahoma City; Site 12 (26 acres, sunset 10/31/2012)—ICON Center Industrial Park, 300 Arlington, Ada; Site 13 (308 acres)—within the 401-acre Guthrie/Edmond Regional Airport, 520 Airport Road, Guthrie; and, Site 14 (19 acres, expires 6/30/2014)—Industrial Gasket, Inc. dba International Group, facility, 720 South Sara Road, Mustang. (Note: Sites 3, 4, 5, 6, 7, 9, 10 and 11 have expired or were deleted through a previous Board action.)

The grantee's proposed service area under the ASF would be Blaine, Caddo, Canadian, Cleveland, Comanche, Custer, Garfield, Garvin, Grady, Kay, Kingfisher, Lincoln, Logan, McClain, Noble, Oklahoma, Payne, Pontotoc, Pottawatomie, Seminole and Stephens Counties, Oklahoma. If approved, the grantee would be able to serve sites throughout the service area based on companies' needs for FTZ designation. The proposed service area is within and adjacent to the Oklahoma City Customs and Border Protection port of entry.

The applicant is requesting authority to reorganize its existing zone project to include existing Sites 12, 13 and 14 as “magnet sites”, existing Site 2 as a “usage-driven” site, and combine existing Site 1 and Site 8 to become Site 1 (new site total—1,091 acres) as a magnet site. The ASF allows for the possible exemption of one magnet site from the sunset time limits that generally apply to sites under the ASF, and the applicant proposes that Site 1 be so exempted. The applicant is also requesting approval of two additional “magnet” sites: Proposed Site 15 (67.688 acres)—Enid Woodring Regional Airport/Cimarron Industrial Park, 1026 S. 66th, Enid (Garfield County); and, Proposed Site 16 (63.434 acres)—Shawnee Regional Airport, 2202 Airport Road, Shawnee (Pottawatomie County). Because the ASF only pertains to establishing or reorganizing a general-purpose zone, the application would have no impact on FTZ 106's authorized subzones.

In accordance with the Board's regulations, Camille Evans of the FTZ Staff is designated examiner to evaluate and analyze the facts and information presented in the application and case record and to report findings and recommendations to the Board.

Public comment is invited from interested parties. Submissions (original and 3 copies) shall be addressed to the Board's Executive Secretary at the address below. The closing period for their receipt is May 20, 2011. Rebuttal comments in response to material submitted during the foregoing period may be submitted during the subsequent 15-day period to June 6, 2011.

A copy of the application will be available for public inspection at the Office of the Executive Secretary, Foreign-Trade Zones Board, Room 2111, U.S. Department of Commerce, 1401 Constitution Avenue, NW., Washington, DC 20230-0002, and in the “Reading Room” section of the Board's Web site, which is accessible via http://www.trade.gov/ftz. For further information, contact Camille Evans at Camille.Evans@trade.gov or (202) 482-2350.

Dated: March 15, 2011.
Andrew McGilvray,
Executive Secretary.

[FR Doc. 2011-6562 Filed 3-18-11; 8:45 am]

BILLING CODE P